DEPARTMENT OF STATE

[Public Notices: 5631]

60-Day Notice of Proposed Information Collection: DS-2028, Overseas Schools Grant Status Report, OMB 1405-0033

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Overseas Schools Grant Status Report.

• OMB Control Number: OMB 1405-0033.

• Type of Request: Extension of a Currently Approved Collection.

• Originating Office: Bureau of Administration, A/OPR/OS.

• Form Number: DS-2028.

• Respondents: Overseas school grantees.

• Estimated Number of Respondents: 185.

• Estimated Number of Responses: 185.

• Average Hours Per Response: 15 minutes.

• Total Estimated Burden: 46 hours.

• Frequency: Annually.

• Obligation to Respond: Required to obtain or retain a benefit.

DATES: The Department will accept comments from the public up to 60 days from November 28, 2006.

ADDRESSES: Keith Miller, Department of State, Office of Overseas Schools, A/OPR/OS, Room H328, SA-1, Washington, DC 20522-0132, who may be reached on 202-261-8200. You may submit comments by any of the following methods:

• E-mail: millerkd2@state.gov You must include the DS form number, information collection title, and OMB control number in the subject line of your message.

• Mail (paper, disk, or CD-ROM submissions): Office of Overseas Schools, U.S. Department of State, 2201 C Street, NW., Washington, DC 20520.

• Fax: 202-261-8224.

• Hand Delivery or Courier: same as mail address.

You must include the DS form number (if applicable), information collection title, and OMB control number in any correspondence.

FOR FURTHER INFORMATION CONTACT: Direct requests for additional information regarding the collection listed in this notice, including requests for copies of the proposed information collection and supporting documents, to Keith Miller, Department of State, Office of Overseas Schools, A/OPR/OS, Room H328, SA-1, Washington, DC 20522-0132, who may be reached on 202-261-8200 or millerkd2@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

The Office of Overseas Schools of the Department of State (A/OPR/OS) is responsible for determining that adequate educational opportunities exist at Foreign Service Posts for dependents of U.S. Government personnel stationed abroad, and for assisting American-sponsored overseas schools to demonstrate U.S. educational philosophy and practice. The information gathered provides the technical and professional staff of A/OPR/OS the means by which obligations, expenditures and reimbursements of the grant funds are monitored to ensure the grantee is in compliance with the terms of the grant.

Methodology:

Information is collected via electronic and paper submission.

Dated: November 13, 2006.
Peggy Philbin,
Executive Director, Bureau of Administration, Department of State.

[FR Doc. E6-20176 Filed 11-27-06; 8:45 am]

BILLING CODE 4710-24-P